DEPARTMENT OF THE INTERIOR

Bureau of Reclamation

Cachuma Lake Resource Management Plan (RMP), Santa Barbara County, CA

AGENCY: Bureau of Reclamation, Interior.

ACTION: Extension of comment period for review of the Draft Environmental Impact Statement (DEIS).

SUMMARY: The Bureau of Reclamation is extending the review period for the DEIS to October 31, 2008. The notice of availability of the DEIS was published in the Federal Register on July 25, 2008 (73 FR 43472). The public review period was originally to end on September 23, 2008.

DATES: Written comments on the DEIS will be accepted on or before October 31, 2008.

ADDRESSES: Send written comments on the DEIS to Mr. Jack Collins , Bureau of Reclamation, 1243 N Street, Fresno, CA 93721.

Copies of the DEIS may be requested from Mr. Jack Collins, by writing to Bureau of Reclamation, 1243 N Street, Fresno, CA 93721; by calling 559-349-4544 (TDD 559-487-5409), or e-mail jcollins@mp.usbr.gov.

The DEIS is also accessible from the following Web site: http://www.usbr.gov/mp/nepa/nepa_projdetails.cfm?Project_ID=283. See SUPPLEMENTARY INFORMATION Section for locations where copies of the DEIS are available for public review.

FOR FURTHER INFORMATION CONTACT: Mr. Jack Collins, Bureau of Reclamation, at 559-349-4544 (TDD 559-487-5409) or e-mail jcollins@mp.usbr.gov.

SUPPLEMENTARY INFORMATION: Due to public interest in an extended comment period, Reclamation is revising the close of the comment period to October 31, 2008.

Copies of the DEIS are available for public review at the following locations:

• Bureau of Reclamation, Mid-Pacific Region, Regional Library, 2800 Cottage Way, Sacramento, CA 95825.

• Bureau of Reclamation, South-Central California Area Office, 1243 N Street, Fresno, CA 93721.

• Cachuma Lake State Recreation Area, Highway 154, Santa Barbara, CA 93105.

• Santa Maria Public Library, 420 South Broadway Avenue, Santa Maria, CA 93454.

• Santa Barbara Public Library, Central Location, 40 East Anapamu Street, Santa Barbara, CA 93101.

• Bureau of Reclamation, Denver Office Library, Building 67, Room 167, Denver Federal Center, 6th and Kipling, Denver, CO 80225.

• Natural Resources Library, U.S. Department of the Interior, 1849 C Street, NW., Main Interior Building, Washington, DC 20240-0001.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: September 12, 2008.
Susan M. Fry,
Regional Environmental Officer, Mid-Pacific Region.

[FR Doc. E8-23987 Filed 10-8-08; 8:45 am]

BILLING CODE 4310-MN-P